DEPARTMENT OF HOUSING AND URBAN DEVELOPMENT

[Docket No. FR-4740-N-05]

Notice of Proposed Information Collection: Comment Request; Request for Release of Documents: ACH Debit Authorization; Master Agreements for Servicer's P&I Custodial Account; and Servicer's Escrow Account and Custodial Account

AGENCY: Office of President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comment Due Date: September 9, 2002.

ADDRESSES: Interested persons are invited to submit comments regarding this proposal. Comments should refer to the proposal by name and/or OMB Control Number and should be sent to: Sonya Suarez, Office of Program Operations, Department of Housing & Urban Development, 451-7th Street, SW., Room 6206, Washington, DC 20410.

FOR FURTHER INFORMATION CONTACT: Sonya Suarez, Ginnie Mae, (202) 708-2884 (this is not a toll-free number) for copies of the proposed forms and other available documents.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submitted submission of responses.

This Notice also lists the following information:

Title of Proposal: (1) Request for Release of Documents; (2) ACH Debit Authorization; (3) Master Agreements for Servicer's P&I Custodial Account; and (4) Servicer's Escrow Account and Custodial Account.

OMB Control Number, if applicable: 2503-0017.

Description of the Need for the Information and Proposed Use

Form 11708 provides issuers access to the documents held by the document custodian. Forms 11709 and 11720 provide evidence to Ginnie Mae that the issuer has executed an agreement with a financial institution to maintain the principal, interest, and escrow funds used to pay securities holders. Form 11709-A authorizes Ginnie Mae's Central Paying and Transfer Agent (CPTA) and the Ginnie Mae Depository to make Automated Clearing House (ACH) debits against an issuer's central principal and interest account at the bank referenced on the form. The CPTA is authorized to initiate ACH debits against the issuer's central principal and interest custodial account at the bank referenced on the form for monthly guaranty fees due in connection with all Ginnie Mae I pools and loan packages, and for monthly P&I payment and guaranty fees due in connection with all Ginnie Mae II pools and loan packages. The Ginnie Mae Depository is authorized to initiate ACH debits against the central P&I custodial account at the bank referenced on the form for monthly P&I payments and prepayment penalties on multifamily loans due in connection with all book-entry securities backed by Ginnie Mae I pools. Form 11715 provides the name of the document custodian institution holding the issuer's documents on behalf of Ginnie Mae.

Agency form numbers, if applicable: HUD Form 11708, 11709, 11709-A, 11715, and 11720.

Members of affected public: For-profit business (mortgage companies, thrifts, savings & loans, etc.).

Estimation of the Total Number of Hours Needed To Prepare the Information Collection, Including Number of Respondents, Frequency of Response, and Hours of Response

Estimates of the hour burden of collecting information for the forms area as follows:

HUD forms | Number of respondents | Frequency of responses | Total of responses | Hrs. per response | Total hours
17708 | 2,966.47 | 1 | 2,966.47 | .2 | 593.29
11709 | 297 | 1 | 297 | .03 | 8.91
11709-A | 297 | 1 | 297 | .25 | 74.25
11715 | 297 | 1 | 297 | .25 | 74.25
11720 | 297 | 1 | 297 | .2 | 59.4
Annual Total | 4,154.47 | 5 | 4,154.47 | .93 | 810.10

Status of the proposed information collection: Extension of a currently approved collection.

Authority: Section 3506 of the Paperwork Reduction Act of 1995, 44 U.S.C. Chapter 35, as amended.

Dated: June 27, 2002.
George S. Anderson,
Executive Vice President, Ginnie Mae.

[FR Doc. 02-17219 Filed 7-9-02; 8:45 am]

BILLING CODE 4210-66-M